DEPARTMENT OF THE TREASURY

Office of Community Adjustment and Investment Programs; Proposed Renewal of Information Collection; Comment Request

ACTION: Notice and request for comments.

SUMMARY: The Department of the Treasury, both as Chair of the inter-agency committee (the “Finance Committee”) established by Executive Order No. 12916, dated May 13, 1994, which administers the United States Community Adjustment and Investment Program, and as part of its continuing effort to reduce paperwork and respondent burden, invites the general public and other Federal agencies to take this opportunity to comment on a continuing Federally-sponsored information collection, as required by the Paperwork Reduction Act of 1995, Public Law 104-13 (44 U.S.C. 3506(c)(2)(A)). Currently, the Office of Community Adjustment and Investment Programs within the Department of the Treasury is soliciting comment concerning its renewal of a Federally sponsored information collection by the North American Development Bank (“NADBank”) titled, “Community Adjustment and Investment Program Grant Program Application.”

DATES: Written comments should be received on or before April 20, 2001, to be assured of consideration.

ADDRESSES: Direct all written comments to Jean Whaley, Director, Office of Community Adjustment and Investment Programs, Department of the Treasury, Room 5017, Main Treasury Building, 1500 Pennsylvania Ave., NW., Washington, DC 20220 (Tel.: 202/622-0741).

FOR FURTHER INFORMATION CONTACT: You can request additional information from or a copy of the collection from Jean Whaley, Director, Office of Community Adjustment and Investment Programs, Department of the Treasury, Room 5017, Main Treasury Building, 1500 Pennsylvania Ave., NW., Washington, DC 20220 (Tel.: 202/622-0741).

SUPPLEMENTARY INFORMATION: Title: Community Adjustment and Investment Program Grant Program Application.

OMB Number: 1505-0181.

Abstract: The Department of the Treasury, as Chair of the Finance Committee, is sponsoring NADBank's collection of information in the form of applications for NADBank grants. Applications will be competitively evaluated and selected. The purpose of the grants is to help create and retain private-sector jobs in U.S. communities experiencing job dislocations attributable to changing trade patterns with Canada and Mexico due to the North American Free Trade Agreement. The subject NADBank grants are endorsed by the United States Government (“USG”), and the funds for the NADBank grants were transferred to NADBank by the USG. The collection of information in the grant application is threefold. First, it requires each applicant to submit information to NADBank that will be used to determine whether the applicant is an eligible applicant and whether the applicant's proposed project is an eligible project. Second, it requires each applicant to submit a project description to NADBank that will be used to evaluate the merits of the applicant's proposed project. Third, it requires each applicant to submit certifications to NADBank which are substantively similar to those contained in applications for Federal financial assistance. The purpose for the collection of information is to competitively evaluate and select projects from eligible applicants for purposes of helping create and preserve private-sector jobs in U.S. communities experiencing job dislocation.

Current Actions: Extension.

Type of Review: Extension.

Affected Public: State, local, and Indian tribal Governments and not-for-profit institutions.

Estimated Number of Respondents: 150.

Estimated Total Annual Responses: 150.

Frequency of Responses: Annual.

Estimated Total Annual Burden Hours: 3,000 hours.

Requests for Comments

Comments submitted in response to this notice will be summarized and/or included in the request for OMB approval. All comments will become a matter of public record. Comments are invited on: (a) Whether the collection of information is necessary, including whether the information has practical utility; (b) the accuracy of the estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: February 13, 2001.
Jean Whaley,
Director, Office of Community Adjustment and Investment Programs.

[FR Doc. 01-3944 Filed 2-15-01; 8:45 am]

BILLING CODE 4810-25-P